DEPARTMENT OF TRANSPORTATION

Office of the Secretary

Application of Maine Aviation Aircraft Charter, LLC for Commuter Air Carrier Authority

AGENCY: Department of Transportation.

ACTION: Notice of Order to Show Cause (Order 2016-12-24), Docket DOT-OST-2016-0114.

SUMMARY: The Department of Transportation is directing all interested persons to show cause why it should not issue an order finding Maine Aviation Aircraft Charter, LLC, fit, willing, and able, and awarding it a Commuter Air Carrier Authorization.

DATES: Persons wishing to file objections should do so no later than January 12, 2017.

ADDRESSES: Objections and answers to objections should be filed in Docket DOT-OST-2016-0114 and addressed to the U.S. Department of Transportation, Docket Operations, 1200 New Jersey Avenue SE., West Building Ground Floor, M-30, Room W12-140, Washington, DC and should be served upon the parties listed in Attachment A to the order.

FOR FURTHER INFORMATION CONTACT: Shabu Thomas, Air Carrier Fitness Division, (X-56, Office W86-469), U.S. Department of Transportation, 1200 New Jersey Avenue SE., Washington, DC 20590, (202) 366-9721.

Dated: December 28, 2016.
Jenny T. Rosenberg,
Acting Assistant Secretary forAviation and International Affairs.

[FR Doc. 2016-31977 Filed 1-4-17; 8:45 am]

BILLING CODE 4910-9X-P